GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/PBS-6

SYSTEM NAME:

Electronic Acquisition System (EAS).

SYSTEM LOCATION:

The system records and documents are maintained at the Enterprise Service Center of the GSA Public Buildings Service (PBS). Contact the EAS System Manager for additional information.

SYSTEM LOCATION:

The system maintains information on individuals, as well as businesses, who have made an offer or provided a quote in response to a PBS solicitation or who have entered into a contract with PBS.

CATEGORIES OF RECORDS IN THE SYSTEM:

The system maintains information required throughout the lifecycle of a PBS contract action including information about contracts, proposals and bids, and vendors. The Central Contractor Registry, a federal government computer system maintained by the Department of Defense, is the sole source for vendor information in EAS. All information received from CCR is originally submitted by the vendor to CCR. In addition to business contact and identification information (address, telephone number, and Taxpayer Identification Number (TIN)), the system includes personal information on individuals who use personal contact and identification information (home address, telephone, e-mail, and fax numbers, and Social Security Number) for business purposes as sole proprietors.

AUTHORITIES FOR MAINTENANCE OF THE SYSTEM:

Office of Federal Procurement Policy Act of 1974 (Pub. L. 93-400), as amended by Public Law 96-83, Federal Acquisition Regulation (FAR), General Services Administration Acquisition Manual (GSAM), GSA Order PBS 2120.1

PURPOSE:

To provide and maintain a system supporting PBS acquisition contract preparation, workflow activities, tracking, and reporting. The system ensures that the PBS staff prepares, assembles, and maintains information necessary for compliance with FAR and GSAM contracting requirements.

ROUTINE USES OF THE SYSTEM RECORDS, INCLUDING CATEGORIES OF USERS AND THEIR PURPOSES FOR USING THE SYSTEM:

System information may be accessed and used by authorized GSA employees and contractors to conduct official duties associated with federal acquisition. Information from this system may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To duly authorized officials engaged in investigating or settling a grievance, complaint, or appeal filed by an individual who is the subject of the record.

d. To the Office of Personnel Management (OPM), the Office of Management and Budget (OMB), the Government Accountability Office (GAO) or other Federal agency when the information is required for program evaluation purposes.

e. To another Federal agency in connection with the hiring or retention of an employee; the issuance of a security clearance; the reporting of an investigation; clarifying a job; the letting of a contract; or the issuance of a grant, license, or other benefit to the extent that the information is relevant and necessary to a decision.

f. To a Member of Congress or his or her staff on behalf of and at the request of the individual who is the subject of the record.

g. To an expert, consultant, or contractor of GSA in the performance of a Federal duty to which the information is relevant.

h. To the National Archives and Records Administration (NARA) for records management purposes.

i. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF SYSTEM RECORDS:

STORAGE:

System records and documents are electronically stored on servers, tape backups, and/or compact discs.

RETRIEVABILITY:

Records may be retrieved by name and/or other personal identifier or appropriate type of designation.

SAFEGUARDS:

System records are safeguarded in accordance with the requirements of the Privacy Act, the Computer Security Act, and the EAS System Security Plan. Technical, administrative, and personnel security measures are implemented to ensure confidentiality and integrity of the data. Security measures include password protections, assigned roles, and transaction tracking.

RETENTION AND DISPOSAL:

Disposition of records will be according to the National Archives and Records Administration (NARA) guidelines, set forth in the GSA Records Maintenance and Disposition System (OAD P 1820.2A) handbook.

SYSTEM MANAGER AND ADDRESS:

EAS Program Manager, Systems Development and Maintenance Division (PGAB), Office of the PBS Chief Information Officer, General Services Administration, 1800 F Street, NW., Washington, DC 20405.

NOTIFICATION PROCEDURES:

Individuals may obtain information about their records from the EAS Program Manager at the above address.

RECORD ACCESS PROCEDURES:

Requests from individuals for access to their records should be addressed to the EAS Program Manager. GSA rules for individuals requesting access to their records are published in 41 CFR part 105-64.

CONTESTING RECORD PROCEDURES:

Individuals must contest their record's source data and appeal determinations for correction at the Central Contractor Registry according to CCR rules. Individuals may contest their GSA records' contents and appeal determinations according to GSA rules published in 41 CFR part 105-64.

RECORD SOURCE CATEGORIES:

Information is obtained from the Central Contractor Registry for registered and matched vendors who are offerors or winners of GSA PBS contract actions.

[FR Doc. E8-8903 Filed 4-24-08; 8:45 am]

BILLING CODE 6820-34-P